DEPARTMENT OF VETERANS AFFAIRS

[OMB Control No. 2900-NEW (Pension and Parents DIC Participants)]

Agency Information Collection Activities Under OMB Review

AGENCY: Office of Policy and Planning, Department of Veterans Affairs.

ACTION: Notice.

SUMMARY: In compliance with the Paperwork Reduction Act (PRA) of 1995 (44 U.S.C., 3501 et seq.), this notice announces that the Office of Policy and Planning (OPPA), Department of Veterans Affairs, has submitted the collection of information abstracted below to the Office of Management and Budget (OMB) for review and comment. The PRA submission describes the nature of the information collection and its expected cost and burden; it includes the actual data collection instrument.

DATES: Comments must be submitted on or before September 13, 2002.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail: denise.mclamb@mail.va.gov. Please refer to “OMB Control No. 2900-NEW (Pension and Parents DIC Participants)”.

Send comments and recommendations concerning any aspect of the information collection to VA's Desk Officer, OMB Human Resources and Housing Branch, New Executive Office Building, Room 10235, Washington, DC 20503 (202) 395-7316. Please refer to “OMB Control No. 2900-NEW (Pension and Parents DIC Participants)”.

SUPPLEMENTARY INFORMATION: Title: Survey of Department of Veterans Affairs Pension and Parents DIC Participants.

OMB Control Number: 2900-New.

Type of Review: New collection.

Abstract: The purpose of this evaluation is to assess the effectiveness and efficiency of the VA Pension and Parents DIC programs. These are needs-based programs that provide benefits to wartime veterans who are permanently and totally disabled due to non-service-connected causes, surviving spouses of deceased wartime veterans, and needy parents of veterans whose deaths were service-connected.

An agency may not conduct or sponsor, and a person is not required to respond to a collection of information unless it displays a currently valid OMB control number. The Federal Register Notice with a 60-day comment period soliciting comments on this collection of information was published on June 4, 2002, at pages 38547-38548.

Affected Public: Individuals or households.

Estimated Time Per Respondent and Annual Burden: 2,871 hours.

a. Veterans @ 45 minutes per response = 981.75 hours.

b. Spouses @ 45 minutes per response = 978 hours.

c. Parents @ 45 minutes per response = 911.25 hours.

Frequency of Response: One-time.

Estimated Number of Respondents: 3,828.

a. Veterans—1,309.

b. Spouses—1,304.

c. Parents—1,215.

Dated: August 6, 2002.
By direction of the Secretary:
Ernesto Castro,
Director, Records Management Service.

[FR Doc. 02-20571 Filed 8-13-02; 8:45 am]

BILLING CODE 8320-01-P